DEPARTMENT OF TRANSPORTATION

Pipeline and Hazardous Materials Safety Administration

49 CFR Part 173

[Docket Number PHMSA-2009-0303 (HM-213D)]

RIN 2137-AE53

Hazardous Materials: Safety Requirements for External Product Piping on Cargo Tanks Transporting Flammable Liquids

AGENCY: Pipeline and Hazardous Materials Safety Administration (PHMSA), DOT.

ACTION: Notice of proposed rulemaking; extension of comment period.

SUMMARY: PHMSA is notifying the public of our intent to extend the comment period by 30 days for a notice of proposed rulemaking published on January 27, 2011.

DATES: The comment period for the NPRM closing on March 28, 2011, is extended until April 27, 2011.

ADDRESSES: You may submit comments identified by the docket number (PHMSA-2009-0303) by any of the following methods:

• Federal eRulemaking Portal: Go to http://www.regulations.gov. Follow the online instructions for submitting comments.

• Fax: 1-202-493-2251.

• Mail: Docket Operations, U.S. Department of Transportation, West Building, Ground Floor, Room W12-140, Routing Symbol M-30, 1200 New Jersey Avenue, SE., Washington, DC 20590.

• Hand Delivery: To Docket Operations, Room W12-140 on the ground floor of the West Building, 1200 New Jersey Avenue, SE., Washington, DC 20590, between 9 a.m. and 5 p.m., Monday through Friday, except Federal Holidays.

Instructions: All submissions must include the agency name and docket number for this notice at the beginning of the comment. Note that all comments received will be posted without change to the docket management system, including any personal information provided.

Docket: For access to the dockets to read background documents or comments received, go to http://www.regulations.gov, or DOT's Docket Operations Office (see ADDRESSES).

FOR FURTHER INFORMATION CONTACT: Dirk Der Kinderen, Standards and Rulemaking Division, Pipeline and Hazardous Materials Safety Administration, telephone (202) 366-8553; or Leonard Majors, Engineering and Research Division, Pipeline and Hazardous Materials Safety Administration, telephone (202) 366-4545.

Privacy Act: Anyone is able to search the electronic form of any written communications and comments received into any of our dockets by the name of the individual submitting the document (or signing the document, if submitted on behalf of an association, business, labor union, etc.). You may review DOT's complete Privacy Act Statement in the Federal Register published on April 11, 2000 (65 FR 19477) or you may visit http://www.regulations.gov.

SUPPLEMENTARY INFORMATION:

I. Background

On January 27, 2011, PHMSA published a notice of proposed rulemaking (NPRM) (HM-213D; 76 FR 4847) seeking public comment on a proposal to prohibit the transportation of flammable liquids in exposed external product piping (wetlines) on a cargo tank motor vehicle (CTMV) unless the CTMV is equipped with bottom damage protection that conforms to the requirements of § 178.337-10 or § 178.345-8(b)(1), as appropriate. We also invited comment on a number of provisions associated with this proposed prohibition such as the residue performance standard relating to applicability of the proposed prohibition as well as conditional exceptions and the proposed transition period and compliance dates. See the January 27, 2011 NPRM for background and a complete discussion of the proposals.

II. Comment Period Extension

We received comments from the American Trucking Associations, Inc. (ATA), the Commercial Vehicle Safety Alliance, the National Tank Truck Carriers, Inc., and the Tank Truck Manufacturers Association requesting an extension of the comment period. These member organizations represent carriers, manufacturers, and officials affected by the NPRM. They state their primary basis for extension is to allow for thorough review and analysis of the HM-213D docket materials. For example, the ATA notes in their comment that the regulatory evaluation for this NPRM contains numerous new assumptions and revised economic analyses that warrant extensive evaluation by industry experts and outside consultants. They indicate that the evaluation will require a review of (1) The wetlines incidents cited by PHMSA; (2) the use and retrofit requirements associated with a manual purging system; and (3) the feasibility of alternatives available to comply with the proposed prohibition. The associations also indicate the need for time to convene with members at meetings scheduled to occur in April and May of 2011 to present findings and to obtain feedback. Additionally, the comment period for this NPRM overlaps with numerous other regulatory initiatives within DOT and other Federal agencies, such as the Environmental Protection Agency, the Occupational Safety and Health Administration, and the U.S. Customs and Border Protection that impact their members. Finally, they note that the trucking industry is dominated by small businesses that do not have the resources to understand and meaningfully participate in the rulemaking process of so many concurrent rulemaking actions. In light of the significance of this rulemaking to their members and for the reasons summarized above, the associations request that PHMSA grant an extension to the HM-213D NPRM comment period ranging from sixty days to six months.

Although PHMSA continues to believe that the initial 60-day comment period provides enough time to review and respond to the rulemaking proposals and supporting material, PHMSA is consenting to the commenter requests to extend the comment period to ensure sufficient time for public review. However, we do not consider a lengthy extension (e.g., 120 days) to be warranted. Accordingly, in the interest of moving this rulemaking action forward in a timely manner, we believe, in addition to the time that remains in the current comment period, extending the comment period by 30 days would be sufficient to relieve the burdens of conducting an extensive evaluation, overlapping rulemaking actions, and needing time to meet with respective trucking industry members for feedback. Thus, the comment period for the HM-213D NPRM is extended from March 28, 2011 until April 27, 2011.

Issued in Washington, DC, on March 11, 2011 under authority delegated in 49 CFR part 106.
Magdy El-Sibaie,
Associate Administrator for Hazardous Materials Safety.

[FR Doc. 2011-6175 Filed 3-16-11; 8:45 am]

BILLING CODE 4910-60-P